DEPARTMENT OF ENERGY

Agency Information Collection Extension

AGENCY: Office of Small Business Innovation Research and Small Business Technology Transfer (SBIR/STTR), Office of Science, Department of Energy.

ACTION: Submission for Office of Management and Budget (OMB) review; comment request.

SUMMARY: The Department of Energy (DOE) has submitted an information collection request to the OMB for extension under the provisions of the Paperwork Reduction Act of 1995. The information collection requests a three-year extension of its Small Business Innovation Research (SBIR) and Small Business Technology Transfer (STTR) Commercialization Survey, OMB Control Number 1910-5166. The proposed collection will satisfy the program requirements of the Small Business Act, including requirements established in the SBIR program reauthorization legislation. DOE will collect the survey data via web-enabled software and provide it to the Small Business Administration (SBA) to maintain information about the DOE SBIR/STTR awards issued through the two programs. This data will be provided by DOE based on information collected from SBIR/STTR awardees. This data will be used by DOE, SBA, and Congress to assess the commercial impact of these two programs.

DATES: Comments regarding this collection must be received on or before September 1, 2021. If you anticipate that you will be submitting comments but find it difficult to do so within the period of time allowed by this notice, please advise the OMB Desk Officer of your intention to make a submission as soon as possible. The Desk Officer may be telephoned at (202) 395-4718.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Claudia Cantoni, SBIR/STTR Programs Manager, U.S. Department of Energy, 19901 Germantown Road, Germantown, MD 20874-1290. Phone: (240) 255-8590. Email: claudia.cantoni@science.doe.gov.

SUPPLEMENTARY INFORMATION: This information collection request contains: (1) OMB No.: 1910-5166; (2) Information Collection Request Title: Small Business Innovation Research (SBIR) and Small Business Technology Transfer (STTR) Commercialization Survey; (3) Type of Request: Renewal; (4) Purpose: The DOE needs this information to satisfy the program requirements of the Small Business Act, including requirements established in the SBIR program reauthorization legislation, Public Law 106-554 and Public Law 107-50. This data will be collected by the DOE and provided to the Small Business Administration (SBA) to maintain information about SBIR/STTR awards issued through the two programs. This data will be provided by DOE based on information collected from SBIR/STTR awardees. This data will be used by DOE, SBA, and Congress to assess the commercial impact of these two programs; (5) Annual Estimated Number of Respondents: 1,000; (6) Annual Estimated Number of Total Responses: 1,000; (7) Annual Estimated Number of Burden Hours: 1,000; (8) Annual Estimated Reporting and Recordkeeping Cost Burden: $83,000.

Statutory Authority: Section 9 of the Small Business Act, as amended, codified at 15 U.S.C. 638(g).

Signing Authority

This document of the Department of Energy was signed on July 27, 2021, by Manny Oliver, Director, Office of Small Business Innovation Research and Small Business Technology Transfer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 27, 2021.
Treena V. Garrett,
Federal Register Liaison Officer, U.S. Department of Energy.

[FR Doc. 2021-16345 Filed 7-30-21; 8:45 am]

BILLING CODE 6450-01-P